DEPARTMENT OF JUSTICE

Parole Commission

Sunshine Act Meeting; Pursuant to the Government in the Sunshine Act (Pub. L. 94-409) [5 U.S.C. Section 552(b)]

Agency Holding Meeting: Department of Justice, United States Parole Commission.

Time and Date: 9:30 a.m., Thursday, November 14, 2002.

Place: 5550 Friendship Blvd., Fourth Floor, Chevy Chase, MD 20815.

Status: Open.

Matters to Be Considered: The following matters have been placed on the agenda for the open Parole Commission meeting:

1. Approval of minutes of Previous Commission Meeting.

2. Reports from the Chairman, Commissioners, Legal, Chief of Staff, Case Operations, and Administrative Sections.

3. Discussion and approval of Salient Factor Scoring Manual Amendments.

Agency Contact: Sam Robertson, Case Operations, United States Parole Commission, (301) 492-5962.

Dated: November 8, 2002.
Rockne Chickinell,
General Counsel, U.S. Parole Commission.

[FR Doc. 02-28997 Filed 11-12-02; 8:45 am]

BILLING CODE 4410-31-M